DEPARTMENT OF THE TREASURY

Office of Thrift Supervision

[AC-1: OTS Nos. H-3959 and 04705]

Community First Bancorp, Inc. and Community First Bank, Madisonville, KY; Approval of Conversion Application

Notice is hereby given that on May 14, 2003, the Director, Supervision Policy, Office of Thrift Supervision (OTS), or her designee, acting pursuant to delegated authority, approved the application of Community First Bank, Madisonville, Kentucky, to convert to the stock form of organization. Copies of the application are available for inspection by appointment (phone number: 202-906-5922 or e-mail: Public.Info@OTS.Treas.gov) at the Public Reading Room, 1700 G Street, NW., Washington, DC 20552, and the OTS Southeast Regional Office, 1475 Peachtree Street, NE., Atlanta, GA 30309.

Dated: May 19, 2003.
By the Office of Thrift Supervision.
Nadine Y. Washington,
Corporate Secretary.

[FR Doc. 03-12901 Filed 5-22-03; 8:45 am]

BILLING CODE 6720-01-M